DEPARTMENT OF STATE

[Public Notice: 11561]

Bureau of Political-Military Affairs, Directorate of Defense Trade Controls: Notifications to the Congress of Proposed Commercial Export Licenses

ACTION: Notice.

SUMMARY: The Directorate of Defense Trade Controls and the Department of State give notice that the attached Notifications of Proposed Commercial Export Licenses were submitted to the Congress on the dates indicated.

DATES: As shown on each of the 26 letters.

FOR FURTHER INFORMATION CONTACT: Ms. Paula C. Harrison, Directorate of Defense Trade Controls (DDTC), Department of State at (202) 663-3310; or access the DDTC website at https://www.pmddtc.state.gov/ddtc public and select “Contact DDTC,” then scroll down to “Contact the DDTC Response Team” and select “Email.” Please add this subject line to your message, “ATTN: Congressional Notification of Licenses.”

SUPPLEMENTARY INFORMATION: Section 36(f) of the Arms Export Control Act (22 U.S.C. 2776) requires that notifications to the Congress pursuant to sections 36(c) and 36(d) be published in the Federal Register in a timely manner. The following comprise recent such notifications and are published to give notice to the public.

April 2, 2021

The Honorable Nancy Pelosi, Speaker of the House of Representatives.

Dear Madam Speaker:

Pursuant to Section 36(c) of the Arms Export Control Act, please find enclosed a certification of a proposed license for the export of defense articles, including technical data, and defense services in the amount 50,000,000 or more.

The transaction contained in the attached certification involves the export of defense articles, including technical data, and defense services to Qatar to support the F-15QA aircrew and maintenance training programs.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 19-117.

April 16, 2021

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data, and defense services to the Czech Republic, Italy, South Africa, Switzerland, and the UK to support the integration, installation, operation, training, testing, maintenance, and repair of the CTS800-4N series gas turbine engines powering Leonardo Super Lynx and AW159 series helicopters.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-017.

May 12, 2021

The Honorable Nancy Pelosi, Speaker of the House of Representatives.

Dear Madam Speaker:

Pursuant to Section 36(c) of the Arms Export Control Act, please find enclosed a certification of a proposed license for the export of firearms abroad controlled under Category I of the U.S. Munitions List in the amount of $1,000,000 or more.

The transaction contained in the attached certification involves the export to Bangladesh of 7.62 x 39mm select fire/automatic rifles.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-031.

May 5, 2021

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to India for AH-64E Apache helicopters and associated spare parts and support equipment.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-053.

April 30, 2021

The Honorable Nancy Pelosi, Speaker of the House of Representatives.

Dear Madam Speaker:

Pursuant to Section 36(c) of the Arms Export Control Act, please find enclosed a certification of a proposed license amendment for the export of defense articles, including technical data and defense services, in the amount of $50,000,000 or more.

The transaction contained in the attached certification involves the export of defense articles, including technical data and defense services, to Belgium, Finland, and the UK to support the maintenance, repair, and overhaul of F100 engines for use with F-15 and F-16 aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-055.

January 5, 2021

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Italy, Taiwan and the UK to support the integration, installation, operation, training, testing, maintenance, and repair of systems supporting the Indigenous Defense Submarine Program.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-059.

April 2, 2021

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export of M4 5.56mm automatic rifles and sound suppressors to Qatar.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-061.

April 2, 2021

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Canada, Germany, Spain and the UK to support the manufacture, overhaul, repair, modification, refurbishment, rework, inspection, quality assurance activities, and testing of landing gear for the F/A-18 A-D, F/A-18 E/F, E/A-18-G and derivative aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-064.

April 2, 2021

The Honorable Nancy Pelosi, Speaker of the House of Representatives.

Dear Madam Speaker:

Pursuant to Section 36(c) of the Arms Export Control Act, please find enclosed a certification of a proposed license amendment for the export of defense articles, including technical data and defense services, in the amount of $50,000,000 or more.

The transaction contained in the attached certification involves the export of defense articles, including technical data and defense services, to Canada, France and the UK to support the manufacture, overhaul, repair, modification, refurbishment, rework, inspection, quality assurance activities, and testing of landing gear for the F/A-18 A-D, F/A E/F, E/A-18-G and derivative aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-065.

May 12, 2021

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to the UK to support the production and delivery of the MQ-9B Protector UAS.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-068.

March 12, 2021

The Honorable Nancy Pelosi, Speaker of the House of Representatives.

Dear Madam Speaker:

Pursuant to Section 36(c) of the Arms Export Control Act, please find enclosed a certification of a proposed license amendment for the export of defense articles, including technical data and defense services, in the amount of $50,000,000 or more.

The transaction contained in the attached certification involves the export of defense articles, including technical data and defense services, to Taiwan to support the integration, installation, operation, training, testing, maintenance, and repair of the 30/40mm MK44 Bushmaster Automatic Cannon System and associated Ammunition Handling System for the Clouded Leopard Vehicle Program.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-070.

April 12, 2021

The Honorable Nancy Pelosi, Speaker of the House of Representatives.

Dear Madam Speaker:

Pursuant to Section 36(c) of the Arms Export Control Act, please find enclosed a certification of a proposed license amendment for the export of defense articles, including technical data and defense services, in the amount of $100,000,000 or more.

The transaction contained in the attached certification involves the export of defense articles, including technical data and defense services, to Denmark and the Netherlands to support the design, development and manufacture of composite components and subassemblies for the F-35 Aircraft Center Fuselage.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-073.

March 17, 2021

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Taiwan to support the overhaul, upgrade, assembly, installation, operation, training, testing, logistics support, engineering services, organization and intermediate level of maintenance and repair of the Phalanx Block 1B Baseline 2 Close-In Weapon System.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-075.

May 5, 2021

The Honorable Nancy Pelosi, Speaker of the House of Representatives.

Dear Madam Speaker:

Pursuant to Section 36(c) of the Arms Export Control Act, please find enclosed a certification of a proposed license amendment for the export of defense articles, including technical data and defense services, in the amount of $100,000,000 or more.

The transaction contained in the attached certification involves the export of defense articles, including defense services and technical data, to Israel for the installation, testing, maintenance, and repair of ASPRO-A (Trophy) anti-tank active protection systems for armored fighting vehicles.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-076.

April 2, 2021

The Honorable Nancy Pelosi, Speaker of the House of Representatives.

Dear Madam Speaker:

Pursuant to Section 36(c) of the Arms Export Control Act, please find enclosed a certification of a proposed license amendment for the export of defense articles, including technical data and defense services, in the amount of 100,000,000 or more.

The transaction contained in the attached certification involves the export of defense articles, including technical data, and defense services to Australia and the Netherlands to support the manufacture of composite components and subassemblies of the F-35 Lightning II Aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-081.

March 17, 2021

The Honorable Nancy Pelosi, Speaker of the House of Representatives.

Dear Madam Speaker:

Pursuant to Sections 36(c) and (d) of the Arms Export Control Act, please find enclosed a certification of a proposed amendment for the manufacture of significant military export of defense articles, including technical data and defense services, in the amount of $50,000,000 or more.

The transaction contained in the attached certification involves the export of defense articles, including technical data and defense services, to the Republic of Korea and Malaysia to support the manufacture of F414-GE-400 military engine parts and components.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-083.

May 5, 2021

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to Israel to support weapons integration, flight test, and hardware delivery of Joint Direct Attack Munition variants and Small Diameter Bomb Increment I variants.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-084.

May 18, 2021

The Honorable Nancy Pelosi, Speaker of the House of Representatives.

Dear Madam Speaker:

Pursuant to Sections 36(c) and (d) of the Arms Export Control Act, please find enclosed a certification of a proposed license amendment for the manufacture of significant military equipment abroad and the export of defense articles, including technical data and defense services, in the amount of $50,000,000 or more.

The transaction contained in the attached certification involves the export of defense articles, including technical data and defense services, to the Republic of Korea to support the organization, intermediate, and depot level maintenance, repair, and overhaul of F100 aircraft engines.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-085.

May 5, 2021

The Honorable Nancy Pelosi, Speaker of the House of Representatives.

Dear Madam Speaker:

Pursuant to section 36(c) of the Arms Export Control Act, please find enclosed a certification of proposed license amendment for the export of the defense articles, including technical data and defense services, in the amount of $100,000,00 or more.

The transaction contained in the attached certification involves the export of defense articles, including technical data and defense services, to Canada to support the remanufacture of existing Phalanx Close-In Weapon Systems to include overhaul, modification, system integration and installation, shipboard checkout, testing, maintenance, operation, and related training.

The U.S. government is prepared to license the export of these items having taken into account political, military, economic, human rights, and arms control considerations.

More detailed information is contained in the formal certification which, though unclassified, contain business information submitted to the Department of State by the applicant, publication of which could cause competitive harm to the U.S. firm concerned.

Sincerely,

Naz Durakoglu,

Acting Assistant Secretary of State, Bureau of Legislative Affairs.

Enclosure: Transmittal No. DDTC 20-089.

May 18, 2021

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Germany, Luxembourg, and the Netherlands to support the maintenance, repair and upgrade of Patriot Missile Round Assemblies, Patriot Missile Transmitters and Patriot test equipment.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-091.

April 30, 2021

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Thailand to support the installation, site preparation, test, integration, logistics, engineering, program management, spars, tool and test equipment, training, and warranty services for the AN/TPS-78 and AN/FPS-130 Radar Systems.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 20-092.

May 18, 2021

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including hardware technical data and defense services, to the UK to support the manufacturing of parts and assemblies for the F-135 Engine Ice Protection System.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 21-001.

April 29, 2021

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to the UK to support the testing, development, evaluation and integration of LiON batteries for the Joint Strike Fighter Aircraft Program.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 21-006.

May 5, 2021

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export to Estonia of 5.56 mm automatic rifles and sim-munition conversion kits.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 21-007.

May 5, 2021

The Honorable Nancy Pelosi, Speaker of the House of Representatives.

Dear Madam Speaker:

Pursuant to Section 36(c) of the Arms Export Control Act, please find enclosed a certification of a proposed license amendment for the export of defense articles, including technical data and defense services, in the amount of $100,000,000 or more.

The transaction contained in the attached certification involves the export of defense articles, including technical data and defense services, to the Netherlands and the UK to support the manufacture, production, test, and inspection of wiring and fiber optic harnesses for the F-35 Joint Strike Fighter.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 21-013.

May 18, 2021

The Honorable Nancy Pelosi, Speaker of the House of Representatives.

Dear Madam Speaker:

Pursuant to Section 36(c) of the Arms Export Control Act, please find enclosed a certification of a proposed license for the export of technical data and defense services in the amount of $50,000,000 or more.

The transaction contained in the attached certification involves the transfer technical data and defense services to India for the maintenance and sustainment of the P-8I Aircraft fleet and associated equipment.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoglu,

Acting Assistant Secretary of State, Bureau of Legislative Affairs.

Enclosure: Transmittal No. DDTC 21-016.

Paula Harrison,
Senior Management Analyst, Directorate of Defense Trade Controls, U.S. Department of State.

[FR Doc. 2021-22551 Filed 10-15-21; 8:45 am]

BILLING CODE 4710-25-P